DEPARTMENT OF ENERGY

10 CFR Part 430

[Docket No. EERE-2015-BT-STD-0006]

RIN: 1904-AD51

Energy Efficiency Program for Consumer Products: Energy Conservation Standards for Fluorescent Lamp Ballasts

AGENCY: Office of Energy Efficiency and Renewable Energy, Department of Energy.

ACTION: Reopening of public comment period.

SUMMARY: On June 23, 2015, the U.S. Department of Energy (DOE) published a notice of public meeting (NOPM) in the Federal Register announcing the availability of the framework document regarding energy conservation standards for fluorescent lamp ballasts. DOE also held a public meeting presenting the framework document on July 17, 2015. The comment period was scheduled to end August 7, 2015. After receiving a request for an additional two weeks to comment, DOE has decided to reopen the comment period for submitting comments and data in response to the framework document regarding energy conservation standards for fluorescent lamp ballasts. The comment period is extended to September 2, 2015.

DATES: DOE will accept comments, data, and information in response to the framework document received no later than September 2, 2015.

ADDRESSES: Interested parties are encouraged to submit comments electronically. However, comments may be submitted, identified by docket number EERE-2015-BT-STD-0006 and/or Regulation Identification Number (RIN) 1904-AD51, by any of the following methods:

• Federal eRulemaking Portal: www.regulations.gov. Follow the instructions for submitting comments.

• Email: FluorLampBallast2015STD0006@ee.doe.gov. Include the docket number EERE-2015-BT-STD-0006 and/or RIN 1904-AD51 in the subject line of the message.

• Postal Mail: Ms. Brenda Edwards, U.S. Department of Energy, Building Technologies Program, Mailstop EE-5B, Framework Document for Fluorescent Lamp Ballasts, Docket No. EERE-2015-BT-STD-0006 and/or RIN 1904-AD51, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, Sixth Floor, 950 L'Enfant Plaza SW., Washington, DC 20024. Telephone (202) 586-2945. If possible, please submit all items on CD, in which case it is not necessary to include printed copies.

Instructions: All submissions received must include the agency name and docket number and/or RIN for this rulemaking. No telefacsimilies (faxes) will be accepted.

Docket: The docket is available for review at www.regulations.gov, including Federal Register notices, framework document, public meeting attendee lists and transcripts, comments, and other supporting documents/materials throughout the rulemaking process. The regulations.gov Web page contains simple instructions on how to access all documents, including public comments, in the docket. The docket can be accessed by searching for docket number EERE-2015-BT-STD-0006 on the regulations.gov Web site. All documents in the docket are listed in the www.regulations.gov index. However, not all documents listed in the index may be publicly available, such as information that is exempt from public disclosure.

FOR FURTHER INFORMATION CONTACT:

Ms. Lucy deButts, U.S. Department of Energy, Office of Energy Efficiency and Renewable Energy, Building Technologies, EE-5J, 1000 Independence Avenue SW., Washington, DC 20585-0121. Telephone: (202) 287-1604. Email: fluorescent_lamp_ballasts@ee.doe.gov.

Ms. Sarah Butler, U.S. Department of Energy, Office of the General Counsel, GC-33, 1000 Independence Avenue SW., Washington, DC 20585-0121. Telephone: (202) 586-1777. Email: sarah.butler@hq.doe.gov.

For information on how to submit or review public comments, contact Ms. Brenda Edwards, U.S. Department of Energy, Office of Energy Efficiency and Renewable Energy, Building Technologies Office, EE-5B, 1000 Independence Avenue SW., Washington, DC 20585-0121. Telephone (202) 586-2945. Email: brenda.edwards@ee.doe.gov.

SUPPLEMENTARY INFORMATION: On June 23, 2015, DOE published a notice in the Federal Register announcing the availability of a framework document for potential energy conservation standards for fluorescent lamp ballasts. 80 FR 35886. This framework document details the analytical approach and scope of coverage for the rulemaking, and identifies several issues on which DOE is particularly interested in receiving comments.¹ The notice also announced a public meeting to present the framework document, which was held on July 17, 2015. The notice provided for the submission of written comments by August 7, 2015.

¹ The framework document is available through DOE's Web site at: http://www1.eere.energy.gov/buildings/appliance_standards/rulemaking.aspx?ruleid=110.

On August 6, 2015, DOE received a request from the National Electrical Manufacturers Association (NEMA) requesting an additional two weeks to prepare comment. In this notice, DOE is reopening the public comment period to allow interested parties to provide DOE with comments and data in response to the methodologies presented in the framework document. DOE will consider any comments in response to the framework document received by midnight of September 2, 2015, and deems any comments received by that time to be timely submitted.

Issued in Washington, DC, on August 12, 2015.
Kathleen B. Hogan,
Deputy Assistant Secretary for Energy Efficiency, Energy Efficiency and Renewable Energy.

[FR Doc. 2015-20381 Filed 8-17-15; 8:45 am]

BILLING CODE 6450-01-P